FEDERAL COMMUNICATIONS COMMISSION

47 CFR Part 64

[CC Docket No. 98-67, FCC 03-112; DA 04-347]

Telecommunications Relay Services and Speech-to-Speech Services for Individuals With Hearing and Speech Disabilities

AGENCY: Federal Communications Commission.

ACTION: Final rule; announcement of effective date.

SUMMARY: In this document, the Commission announces that the Office of Management and Budget (OMB) has approved for three years the information collection requirements contained in the Telecommunications Relay Services and Speech-to-Speech Services for Individuals with Hearing and Speech Disabilities, Second Report and Order, Order on Reconsideration (Second Report and Order). Also, this document includes the effective date of 47 CFR 64.604 (a)(3)(v), (vi) and (viii) that were adopted or modified in the Second Report and Order, will become effective February 24, 2004.

DATES: 47 CFR 64.604 (a)(3) and (c)(2) published at 68 FR 50973, August 25, 2003 are effective February 24, 2004.

FOR FURTHER INFORMATION CONTACT: Dana Jackson or Cheryl King, Consumer & Governmental Affairs Bureau, Disability Rights Office at (202) 418-2517 (voice), (202) 418-7898 (TTY).

SUPPLEMENTARY INFORMATION: This is a summary of the Commission's Public Notice, DA 04-347, released February 11, 2004 announcing OMB approval for three years the information collection requirements contained in Second Report and Order. The information collections were approved by OMB on January 27, 2004. OMB Control Number 3060-1047. The Commission publishes this notice of the effective date of the rules. If you have any comments on these burden estimates, or how we can improve the collection(s) and reduce the burden(s) they cause you, please write to Les Smith, Federal Communications Commission, Room 1-A804, 445 12th Street, SW., Washington, DC 20554. Please include the OMB Control Number 3060-1047, in your correspondence. We will also accept your comments regarding the Paperwork Reduction Act aspects of the collection via the Internet, if you send them to Leslie.Smith@fcc.gov or call (202) 418-0217. The Second Report and Order also adopted or modified regulations that do not require OMB approval, and states that such regulations become effective 6 months from the date of publication of the Second Report and Order, in the Federal Register. See Second Report and Order at paragraph 27, released June 17, 2003. A summary of the Second Report and Order was published in the Federal Register at 68 FR 50973, August 25, 2003. However, 47 CFR 64.604 (a) (3), (v), (vi) and (viii) that do not require OMB approval, published at 68 FR 50973, August 25, 2003, will become effective February 24, 2004. A copy of the TRS rules, as amended, will appear after that date on the Commission's website at: http://www.fcc.gov/cgb/dro/4regs.html.

To request materials in accessible formats for people with disabilities (Braille, large print, electronic files, audio format), send an e-mail to fcc504@fcc.gov or call the Consumer & Governmental Affairs Bureau at (202) 418-0531 (voice), (202) 418-7365 (TTY). This Public Notice can also be downloaded in Text and ASCII formats at: http://www.fcc.gov/cgb/dro.

Synopsis

As required by the Paperwork Reduction Act of 1995 (44 U.S.C. 3507), the FCC is notifying the public that it received approval from OMB on January 27, 2004, for the collection(s) of information contained in the Commission's new voluntary and mandatory reporting requirements in 47 CFR 64.604 (a) (3) and (c) (2). The OMB Control Number is 3060-1047. The annual reporting burden for the collection(s) of information, including the time for gathering and maintaining the collection of information, is estimated to be: 352 respondents, and average of 5.311 hours per response per annum, for a total hour burden of 1,366 hours, and no annual cost. Under 5 CFR 1320, an agency may not conduct or sponsor a collection of information unless it displays a current valid OMB Control Number.

No person shall be subject to any penalty for failing to comply with a collection of information subject to the Paperwork Reduction Act (PRA) that does not display a valid OMB Control Number.

The foregoing notice is required by the Paperwork Reduction Act of 1995, Public Law 104-13, October 1, 1995, 44 U.S.C. 3507.

Federal Communications Commission.
Marlene H. Dortch,
Secretary.

[FR Doc. 04-4086 Filed 2-23-04; 8:45 am]

BILLING CODE 6712-01-P